DEPARTMENT OF HEALTH AND HUMAN SERVICES

National Committee on Vital and Health Statistics: Meeting

Pursuant to the Federal Advisory Committee Act, the Department of Health and Human Services (HHS) announces the following advisory committee meeting.

Name: National Committee on Vital and Health Statistics (NC VHS).

Time and Date: May 21, 2008, 9 a.m.-3 p.m.; May 22, 2008, 10 a.m.-2 p.m.

Place: Renaissance Washington DC Hotel, 999 9th Street, NW., Washington, DC 20001, Tel: 202 898 9000.

Status: Open.

Purpose: At this meeting the Committee will hear presentations and hold discussions on several health data policy topics. On the first day the Committee will hear updates from the Department by the Data Council and the HHS Office of the National Coordinator (ONC). They will also discuss letters to the HHS Secretary on hospital surge capacity and e-prescribing standards and long term care. Later in the afternoon there will be an update on classification issues in healthcare terminology.

On the morning of the second day the Committee will continue the discussions on the letters on surge capacity and e-prescribing standards. The remainder of the time will be spent discussing future agenda items and Committee administrative operations.

The times shown above are for the full Committee meeting. Subcommittee breakout sessions can be scheduled for late in the afternoon of the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NC VHS home page of the HHS Web site: http://www.ncvhs.hhs.gov/, where further information including an agenda will be posted when available.

Should you require reasonable accommodation, please contact the CDC Office of Equal Employment Opportunity on (301) 458-4EEO (4336) as soon as possible.

Dated: April 21, 2008.
James Scanlon,
Deputy Assistant Secretary for Planning and Evaluation (SDP), Office of the Assistant Secretary for Planning and Evaluation.

[FR Doc. E8-10322 Filed 5-8-08; 8:45 am]

BILLING CODE 4151-05-M